DEPARTMENT OF COMMERCE

National Oceanic and Atmospheric Administration

[I.D. 032000E]

New England Fishery Management Council; Public Meeting

AGENCY: National Marine Fisheries Service (NMFS), National Oceanic and Atmospheric Administration (NOAA), Commerce.

ACTION: Notice of cancellation of a public meeting.

SUMMARY: The New England Fishery Management Council (Council) has cancelled the public meeting of its Research Steering and Experimental Fisheries Committee that was scheduled for Tuesday and Wednesday, April 25-26, 2000, at 9:00 and 8:30 a.m., respectively. The meetings were announced in the Federal Register on March 27, 2000.

FOR FURTHER INFORMATION CONTACT: Paul J. Howard, Executive Director, New England Fishery Management Council; telephone: 978-465-0492.

SUPPLEMENTARY INFORMATION: The initial notice published on March 27, 2000 (65 FR 16186). The meeting will be rescheduled at a later date and announced in the Federal Register.

Dated: April 17, 2000.
Richard W. Surdi,
Acting Director, Office of Sustainable Fisheries, National Marine Fisheries Service.

[FR Doc. 00-10026 Filed 4-20-00; 8:45 am]

BILLING CODE 3510-22-F